NATIONAL SCIENCE FOUNDATION

Proposal Review Panel for Computing and Communication Foundations; Notice of Meeting

In accordance with the Federal Advisory Committee Act (Pub. L. 92-463, as amended), the National Science Foundation (NSF) announces the following meeting:

Name and Committee Code: Proposal review panel for Computing and Communication Foundations (#1192)—Expeditions in Computing Division—Year 2 DeepSpec Site Visit.

Date and Time:

March 21, 2018; 6:30 p.m.-8:30 p.m.

March 22, 2018; 8:00 a.m.-9:00 p.m.

March 23, 2018; 8:30 a.m.-2:30 p.m.

Place: Princeton University, 1 Nassau Hall, Princeton, NJ 08544.

Type of Meeting: Partially Closed.

Contact Person: Anindya Banerjee, Expeditions in Computing Program, National Science Foundation, 2415 Eisenhower Avenue, Alexandria, Virginia 22314; Telephone 703/292-8910.

Purpose of Meeting: Site visit to assess the progress of the EIC Award: CCF-1521602, “Collaborative Research: Expeditions in Computing: The Science of Deep Specification,” and to provide advice and recommendations concerning further NSF support for the project.

Agenda

Wednesday, March 21, 2018

6:30 p.m.-8:30 p.m.: Closed

Evening briefing to discuss the Expeditions award and forthcoming site visit.

Thursday, March 22, 2018

8:00 a.m.-12:30 p.m.: Open

Presentations by Awardee Institution, faculty staff and students, to Site Team and NSF Staff.

Discussions and question and answer sessions.

1:30 p.m.-2:00 p.m.: Closed

NSF Staff and Panelists deliberation.

2:00 p.m.- 5:00 p.m.: Open

Continued presentations by Awardee Institution. Response and feedback to presentations by Site Team and NSF Staff. Discussions and question and answer sessions. Draft report on education and research activities. Complete written site visit report with preliminary recommendations.

6:00 p.m.-9:00 p.m.: Closed

NSF Staff and Panelists working dinner.

Friday, March 23, 2018

8:30 a.m.-10:00 a.m.: Open

Expeditions PIs responses to issues raised by panelists.

10:30 a.m.-2:00 p.m.: Closed

Panelists prepare site visit report.

2:00 p.m.-3:30 p.m.: Open

Presentation of site visit report to Expeditions leadership team.

Reason for Closing: Topics to be discussed and evaluated during the site review will include information of a proprietary or confidential nature, including technical information; and information on personnel. These matters are exempt under 5 U.S.C. 552b(c), (4) and (6) of the Government in the Sunshine Act.

Dated: February 20, 2018.
Crystal Robinson,
Committee Management Officer.

[FR Doc. 2018-03735 Filed 2-22-18; 8:45 am]

BILLING CODE 7555-01-P